ENVIRONMENTAL PROTECTION AGENCY

[FRL-6930-7]

Estuarine and Coastal Marine Waters: Bioassessment and Biocriteria Technical Guidance Document; Notice of Availability

AGENCY: Environmental Protection Agency (EPA).

ACTION: Notice of availability.

SUMMARY: EPA is announcing the availability of the Estuarine and Coastal Marine Waters: Bioassessment and Biocriteria Technical Guidance document developed and published pursuant to section 304(a)(8) of the Clean Water Act (CWA). This technical guidance document helps fulfill CWA section 101(a) which states, in summary, “The objective of this Act is to restore and maintain the chemical, physical, and biological integrity of the Nation's waters.”

To help protect the biological integrity of the Nation's waters, this technical guidance provides an extensive collection of methods and protocols for conducting bioassessments in estuarine and coastal marine waters and the procedures for deriving biocriteria from the results. Case studies illustrate the bioassessment process and biocriteria derivation procedures. The document outlines physical classification of estuaries and coastal marine waters, and discusses sampling methods and candidate metrics for four core groups of biological indicator assemblages: benthic macroinvertebrates, fish, aquatic macrophytes, and phytoplankton. Three sampling tiers are developed, increasing in sampling effort, precision, and diagnostic ability. Alternative data analysis methods are introduced for biological index development, and the document ends with eight case studies illustrating the implementation of the methods.

Many natural resource agencies throughout the United States are using bioassessments and biocriteria for small rivers and streams and some States are beginning work in lakes and reservoirs. EPA issued guidance documents for these water bodies in 1996 and 1998, respectively (Biological Criteria: Technical Guidance for Streams and Small Rivers (EPA-822-B-96-001) and Lake and Reservoir Bioassessment and Biocriteria Technical Guidance Document (EPA 841-B-98-007)).

With the use of this guidance State/Tribal and Federal water resource managers will be able to better protect and restore the biological integrity of coastal and estuarine resources. This guidance is not a regulation and does not impose legally-binding requirements on EPA, States, Territories, Tribes, or the public.

Availability of Documents: The guidance is published with the following title and EPA document number; Estuarine and Coastal Marine Waters: Bioassessment and Biocriteria Technical Guidance, (EPA 822-B-00-024), dated December 2000. The document and a summary Fact Sheet are available on the EPA website at www.epa.gov/ost/biocriteria/. Paper copies can be obtained from the U.S. EPA, Water Resource Center by phone at: (202) 260-7786, or by sending an e-mail to the Center at center.water-resource@epa.gov, or through conventional mail by sending a letter of request to U.S. EPA Water Resource Center, Ariel Rios Building, 1200 Pennsylvania Ave., Washington, DC 20460.

FOR FURTHER INFORMATION CONTACT: William Swietlik at (202) 260-9569 or by e-mail at swietlik.william@epa.gov or Laura Gabanski at (202) 260-5868 or by e-mail at gabanski.laura@epa.gov.

Dated: December 22, 2000.
Geoffrey H. Grubbs,
Director, Office of Science and Technology.

[FR Doc. 01-573 Filed 1-8-01; 8:45 am]

BILLING CODE 6560-50-P